DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency, as part of its continuing effort to reduce paperwork and respondent burden, invites the general public and other Federal agencies to take this opportunity to comment on a proposed revision of a currently approved information collection. In accordance with the Paperwork Reduction Act of 1995, this notice seeks comments concerning Disaster Assistance Registration applications.

SUPPLEMENTARY INFORMATION: The Robert T. Stafford Disaster Relief and Emergency Assistance Act (the Stafford Act), Public Law 93-288, as amended, is the legal basis for the Federal Emergency Management Agency (FEMA) to provide financial assistance and services to individuals who apply for disaster assistance benefits in the event of a major disaster. 44 CFR, Subpart D, Federal Assistance to Individuals and Households, section 206.110 et seq., implements the policy and procedures set forth in section 408 of the Stafford Act, 42 U.S.C. 5174, as amended by the Disaster Mitigation Act of 2000. This program provides financial assistance and, if necessary, direct assistance to eligible individuals and households who, as a direct result of a major disaster or emergency, have uninsured or under-insured, necessary expenses and serious needs and are unable to meet such expenses or needs through other means.

Collection of Information

Title: Disaster Assistance Registration.

Type of Information Collection: Revision of a currently approved collection.

OMB Number: 1660-0002.

Form Numbers: FEMA Forms 90-69 (English) and 90-69A (Spanish), Application/Registration for Disaster Assistance, FEMA Forms 90-69B (English) and 90-69(C) Spanish, Declaration and Release.

Abstract: After a major disaster or emergency is declared by the President, a Tele-Registration 800 number is published for individuals, to call so that they may apply for emergency assistance. FEMA service representatives will interview applicants over the telephone using an Intranet script, and record applicants' information directly into the electronic copy of FEMA Forms 90-69 (English) and 90-69A (Spanish) Application/ Registration for Disaster Assistance in the National Emergency Management Information System (NEMIS) computer system. In rare circumstances, when the system is not accessible, or when phone lines are down, FEMA representatives will record information using the paper versions of FEMA Forms 90-69 (English) and 90-69A (Spanish) Application/Registration for Disaster Assistance. The paper versions of these forms are entered into NEMIS by FEMA representatives.

In order to be eligible to receive FEMA Disaster Assistance, a member of the household must be a citizen, non-citizen national, or qualified alien of the United States. FEMA Forms 90-69B (English) and 90-69C (Spanish), Declaration and Release form is used to certify respondents' information and eligibility, after the application process. FEMA Forms 90-69B and 90-69C further informs the respondent of the Privacy Act and Paperwork Burden Disclosure Notice. Once applicants have completed the Declaration and Release form FEMA will notify contract firms for inspection of damaged properties.

Affected Public: Individuals and Households.

Estimated Total Annual Burden Hours:

Annual Burden Hours
Project/activity (survey, form(s), focus group, etc.) | No. of respondents | Frequency of responses | Burden hours per respondent | Annual responses | Total annual burden hours
| (A) | (B) | (C) | (AxB) | (AxBxC)
Tele-Registration Application Registration for Disaster Assistance (English and Spanish) | 1,151,255 | 1 | 18 min. | 1,151,255 | 345,377
Internet Application Registration for Disaster Assistance (English and Spanish) | 515,487 | 1 | 18 min. | 515,487 | 154,646
Paper version of FEMA Form 90-69 and 90-69A (English and Spanish) | 51,549 | 1 | 18 min. | 51,549 | 15,465
TOTAL | 1,718,291 |  | 18 minutes | 1,718,291 | 515,488
FEMA Form 90-69B and 90-69C, Declaration and Release (English and Spanish) | 1,099,706 | 1 | 2 min. | 1,099,706 | 36,657
Receipt for Government Property (Temporary Housing Unit) (English and Spanish) | 17,183 | 1 | 20 min. | 17,183 | 5,728
|  |  |  |  | 557,873

Estimated Cost: It is estimated that the annualized cost to respondents for the hour burdens will be approximately $10,543,799 for completing the Disaster Assistance Registration applications for this collection of information. Respondents are individuals and families.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before February 2, 2007.

ADDRESSES: Interested persons should submit written comments to Chief, Records Management and Privacy, Information Resources Management Branch, Information Technology Services Division, Federal Emergency Management Agency, 500 C Street, SW., Room 316, Washington, DC 20472.

FOR FURTHER INFORMATION CONTACT: Contact George Fraley, Processing Service Analyst, Recovery Division, (301) 891-8696 for additional information. You may contact the Records Management Branch for copies of the proposed collection of information at facsimile number (202) 646-3347 or e-mail address: FEMA-Information-Collections@dhs.gov.

Dated: November 28, 2006.
John A. Sharetts-Sullivan,
Chief, Records Management and Privacy, Information Resources Management Branch, Information Technology Services Division, Federal Emergency Management Agency, Department of Homeland Security.

[FR Doc. E6-20415 Filed 12-1-06; 8:45 am]

BILLING CODE 9110-10-P